DEPARTMENT OF HEALTH AND HUMAN SERVICES

Health Resources and Services Administration

Delegation of Authority

Notice is hereby given that I have delegated to the Administrator, Health Resources and Services Administration (HRSA), all authorities vested in the Secretary of Health and Human Services under Part D, Title III of the PHS Act, Subpart IX—Support of Graduate Medical Education Programs, as amended. This delegation excludes the authority to issue regulations and to submit reports to Congress This authority may be redelegated.

In addition, I hereby ratify any actions taken by the Administrator or other HRSA officials which involved exercise of this authority prior to the effective date of this delegation.

This delegation is effective upon date of signature.

Dated: June 2, 2000.
Donna E. Shalala,
Secretary.

[FR Doc. 00-14802 Filed 6-12-00; 8:45 am]

BILLING CODE 4160-15-M